DEPARTMENT OF DEFENSE

Office of the Secretary

[Transmittal No. 17-0B]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, Transmittal 17-0B with attached Policy Justification; Sensitivity of Technology; and State Department Emergency Determination and Justification.

Dated: July 19, 2019.
Aaron T. Siegel,
Alternate OSD Federal Register Liaison Officer, Department of Defense.

BILLING CODE 5001-06-P

BILLING CODE 5001-06-C

Transmittal No. 17-0B

REPORT OF ENHANCEMENT OR UPGRADE OF SENSITIVITY OF TECHNOLOGY OR CAPABILITY (SEC. 36(B)(5)(C), AECA)

(i) Purchaser: Government of the United Arab Emirates (UAE)

(ii) Sec. 36(b)(1), AECA Transmittal No.: 16-15 Date: 8 December 2016

Military Department: Army

(iii) Description: On December 8, 2016, Congress was notified by Congressional certification transmittal number 16-15 of the possible sale under Section 36(b)(1) of the Arms Export Control Act of twenty-eight (28) AH-64E Remanufactured Apache Attack Helicopters; nine (9) new AH-64E Apache Attack Helicopters; seventy-six (76) T700-GE-701D Engines (56 remanufactured, 18 new, 2 spares); thirty-nine (39) AN/ASQ-170 Modernized Target Acquisition and Designation Sight/AN/AAR-11 Modernized Pilot Night Vision Sensors (28 remanufactured, 9 new, 2 spares); thirty-two (32) remanufactured AN/APR-48B Modernized Radar Frequency Interferometers; forty-six (46) AAR-57 Common Missile Warning Systems (31 remanufactured, 9 new, 6 spares); eighty-eight (88) Embedded Global Positioning Systems with Inertial Navigation (72 new, 16 spares); forty-four (44) Manned-Unmanned Teaming-International (MUMTi) systems (28 remanufactured, 9 new, 7 spares); and fifteen (15) new MUMTi System Upper Receivers, training devices, helmets, simulators, generators, transportation, wheeled vehicles and organization equipment, spare and repair parts, support equipment, tools and test equipment, technical data and publications, personnel training and training equipment, U.S. government and contractor engineering, technical, and logistics support services, and other related elements of logistics support. The estimated cost was $3.5 billion. Major Defense Equipment (MDE) constituted $1.68 billion of this total.

This transmittal reports:

1. the addition of thirty (30) Radar Electronic Units (REU) as MDE, which were included in the total value of the original transmittal, but were not properly identified as MDE; and

2. the inclusion of additional quantities of the following items: one (1) new AH-64E Apache Attack Helicopter, six (6) T700-GE-701D engines (2 installed, 4 spares), one (1) new AN/ASQ-170 Modernized Target Acquisition and Designation Sight/AN/AAR-11 Modernized Pilot Night Vision Sensor, one (1) new AAR-57 Common Missile Warning System, sixty-two (62) Embedded Global Positioning Systems with Inertial Navigation (EGIs) (60 remanufactured, 2 new), and one (1) new Manned-Unmanned Teaming-International (MUMTi) system. The total MDE value of these items is $101,518,591. The addition will not add to the total notified value of MDE, which will remain $1.68 billion. The total notified case value will remain $3.5 billion.

(iv) Significance: This notification is being provided to report the inclusion of MDE and non-MDE items that were not included in the original notification. The UAE lost a helicopter during recent operations and has requested to replace this loss.

(v) Justification: The Secretary of State has determined and certified that an emergency exists that requires the immediate sale to the United Arab Emirates of the above defense articles (and defense services) in the national security interests of the United States, thereby waiving the Congressional review requirements under Section 36(b) of the Arms Export Control Act, as amended. This equipment will support the capabilities of UAE's Apache fleet and enhance interoperability with the United States.

(vi) Sensitivity of Technology:

The AH-64E Apache Attack Helicopter weapon system contains communications and target identification equipment, navigation equipment, aircraft survivability equipment, displays, and sensors. The airframe itself does not contain sensitive technology; however, the pertinent equipment listed below will be either installed on the aircraft or included in the sale:

a. The Radar Electronic Unit (REU) is a component upgrade to the AN/APG-78 Fire Control Radar (FCR). The REU replaces two legacy Line Replaceable Units (Programmable Signal Processor and Low Power Radio Frequency), achieving a weight reduction of approximately 85 pounds, with improved reliability, increased processing power, growth for new modes/capabilities and replacement of obsolete components. Critical system information is stored in the FCR/REU in the form of mission executable code, target detection, classification algorithms and coded threat parametric. This information is provided in a form that cannot be extracted by the foreign user via anti-tamper provisions built into the system.

b. The AN/APG-78 Fire Control Radar (FCR) is an active, low-probability of intercept, millimeter-wave radar, combined with a passive AN/APR-48B Modernized Radar Frequency Interferometer (M-RFI) mounted on top of the helicopter mast. The FCR Ground Targeting Mode detects, locates, classifies and prioritizes stationary or moving armored vehicles, tanks and mobile air defense systems as well as hovering helicopters, helicopters, and fixed wing aircraft in normal flight. If desired, the radar data can be used to refer targets to the regular electro-optical Modernized Target Acquisition and Designation Sight (MTADS). This information is provided in a form that cannot be extracted by the foreign user. The content of these items is classified SECRET. User Data Module (UDM) on the RFI processor, contains the Radio Frequency threat library. The UDM, which is a hardware assemblage, is classified CONFIDENTIAL when programmed with threat parameters, threat priorities and/or techniques derived from U.S. intelligence information.

c. The AN/ASQ-170 Modernized Target Acquisition and Designation Sight/AN/AAQ-11 Pilot Night Vision Sensor (MTADS/PNVS) provides day, night, and limited adverse weather target information, as well as night navigation capabilities. The PNVS provides thermal imaging that permits nap-of-the-earth flight to, from, and within the battle area, while TADS provides the co-pilot gunner with search, detection, recognition, and designation by means of Direct View Optics (DVO), EI2 television, and Forward Looking Infrared (FLIR) sighting systems that may be used singularly or in combinations. Hardware is UNCLASSIFIED. Technical manuals for authorized maintenance levels are UNCLASSIFIED. Reverse engineering is not a major concern.

d. The AAR-57 Common Missile Warning System (CMWS) detects energy emitted by threat missiles in-flight, evaluates potential false alarm emitters in the environment, declares validity of threat and selects appropriate countermeasures. The CMWS consists of an Electronic Control Unit (ECU), Electro-Optic Missile Sensors (EOMSs), and Sequencer and Improved Countermeasures Dispenser (ICMD). The ECU hardware is classified CONFIDENTIAL; releasable technical manuals for operation and maintenance are classified SECRET.

e. The Embedded Global Positioning System/Inertial Navigation System plus Multi Mode Receiver (EGI+MMR) The aircraft has two EGIs which use internal accelerometers, rate gyro measurements, and external sensor measurements to estimate the aircraft state, provides aircraft flight and position data to aircraft systems. The EGI is a velocity-aided, strap down, ring laser gyro based inertial unit. The EGI unit houses a GPS receiver. The receiver is capable of operating in either non-encrypted or encrypted. When keyed, the GPS receiver will automatically use anti-spoof/jam capabilities when they are in use. The EGI will retain the key through power on/off/on cycles. Because of safeguards built into the EGI, it is not considered classified when keyed. Integrated within the EGI is an Inertial Measurement Unit (IMU) for processing functions. Each EGI also houses a Multi-Mode Receiver (MMR). The MMR is incorporated to provide for reception of ground based NAVAID signals for instrument aided flight. Provides IMC I IFR integration and certification of improved Embedded Global Positioning System and Inertial (EGI) unit, with attached MMR, with specific cockpit instrumentation allows Apaches to operate within the worldwide IFR route structure. Also includes integration of the Common Army Aviation Map (CAAM), Area Navigation (RNAV), Digital Aeronautical Flight Information File (DAFIF) and Global Air Traffic Management (GATM) compliance.

f. Manned-Unmanned Teaming-International (MUMT-I) provides Manned-Unmanned Teaming with Unmanned Aerial Systems (UASs), other Apaches and other interoperable aircraft and land platforms. Provides ability to display real-time UAS sensor information to aircraft and transmit MTADS video. Capability to receive video and metadata from Interoperability Profile compliant (IOP) as well as legacy systems. It is a data link for the AH-64E that provides a fully integrated multiband, interoperable capability that allows pilots to receive off-board sensor video streaming from different platforms in non-Tactical Common Data Link (TCDL) bands. The MUMT I data link can retransmit UAS or Apache Modernized Target Acquisition Designation Sight full-motion sensor video and metadata to another MUMT-I-equipped Apache. It can also transmit to ground forces equipped with the One Station Remote Video Terminal. It provides Apache aircrews with increased situational awareness and net-centric interoperability while significantly reducing sensor-to-shooter timelines. This combination results in increased survivability of Apache aircrews and ground forces by decreasing their exposure to hostile fire.

(vii) Date Report Delivered to Congress: May 24, 2019

BILLING CODE 5001-06-P

[FR Doc. 2019-15753 Filed 7-23-19; 8:45 am]

BILLING CODE 5001-06-P